DEPARTMENT OF COMMERCE

International Trade Administration

[A-588-883]

Lattice Boom Crawler Cranes From Japan: Preliminary Affirmative Determination of Sales at Less Than Fair Value, Postponement of Final Determination, and Extension of Provisional Measures

AGENCY: Enforcement and Compliance, International Trade Administration, Department of Commerce.

SUMMARY: The U.S. Department of Commerce (Commerce) preliminarily determines that lattice boom crawler cranes (cranes) from Japan are being, or likely to be, sold in the United States at less than fair value (LTFV). The period of investigation (POI) is April 1, 2024, through March 31, 2025. Interested parties are invited to comment on this preliminary determination.

DATES: Applicable January 16, 2026.

FOR FURTHER INFORMATION CONTACT: Dmitry Vladimirov or Thomas Schauer, AD/CVD Operations, Office I, Enforcement and Compliance, International Trade Administration, U.S. Department of Commerce, 1401 Constitution Avenue NW, Washington, DC 20230; telephone: (202) 482-0665 or (202) 482-0410, respectively.

SUPPLEMENTARY INFORMATION:

Background

This preliminary determination is made in accordance with section 733(b) of the Tariff Act of 1930, as amended (the Act). Commerce published the notice of initiation of this investigation on May 7, 2025.¹ On August 21, 2025, Commerce published the postponement of the preliminary determination of this investigation to November 6, 2025.² Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for the preliminary determination is now January 13, 2026.

¹ See Lattice Boom Crawler Cranes from Japan: Initiation of Less-Than-Fair-Value Investigation, 90 FR 19270 (May 7, 2025) (Initiation Notice).

² See Lattice Boom Crawler Cranes from Japan: Postponement of Preliminary Determination in the Less-Than-Fair-Value Investigation, 90 FR 40817 (August 21, 2025).

³ See Memorandum, “Deadlines Affected by the Shutdown of the Federal Government,” dated November 14, 2025.

⁴ See Memorandum, “Tolling of all Case Deadlines,” dated November 24, 2025.

For a complete description of the events that followed the initiation of this investigation, see the Preliminary Decision Memorandum.⁵ A list of topics included in the Preliminary Decision Memorandum is included as Appendix II to this notice. The Preliminary Decision Memorandum is a public document and is on file electronically via ACCESS. ACCESS is available to registered users at https://access.trade.gov. In addition, a complete version of the Preliminary Decision Memorandum can be accessed directly at https://access.trade.gov/public/FRNoticesListLayout.aspx.

⁵ See Memorandum, “Decision Memorandum for the Preliminary Affirmative Determination in the Less-Than-Fair-Value Investigation of Lattice Boom Crawler Cranes from Japan,” dated concurrently with, and hereby adopted by, this notice (Preliminary Decision Memorandum).

Scope of the Investigation

The products covered by this investigation are cranes from Japan. For a complete description of the scope of this investigation, see Appendix I.

Scope Comments

In accordance with the Preamble to Commerce's regulations,⁶ the Initiation Notice set aside a period of time for parties to raise issues regarding product coverage (i.e., scope).⁷ Certain interested parties commented on the scope of the investigation as it appeared in the Initiation Notice. For a summary of the product coverage comments and rebuttal responses submitted to the record for this preliminary determination, and accompanying discussion and analysis of all comments timely received, see the Preliminary Scope Decision Memorandum.⁸ Commerce is not preliminarily modifying the scope language as it appeared in the Initiation Notice. See the scope in Appendix I to this notice.

⁶ See Antidumping Duties; Countervailing Duties, 62 FR 27296, 27323 (May 19, 1997) (Preamble).

⁷ See Initiation Notice.

⁸ See Memorandum, “Less-Than-Fair-Value Investigation of Lattice Boom Crawler Cranes from Japan: Preliminary Scope Decision Memorandum,” dated concurrently with this preliminary determination (Preliminary Scope Decision Memorandum).

Methodology

Commerce is conducting this investigation in accordance with section 731 of the Act. Constructed export prices have been calculated in accordance with section 772(b) of the Act. Normal value is calculated in accordance with section 773 of the Act. For a full description of the methodology underlying the preliminary determination, see the Preliminary Decision Memorandum.

All-Others Rate

Sections 733(d)(1)(ii) and 735(c)(5)(A) of the Act provide that in the preliminary determination Commerce shall determine an estimated all-others rate for all exporters and producers not individually examined. This rate shall be an amount equal to the weighted average of the estimated weighted-average dumping margins established for exporters and producers individually investigated, excluding any zero and de minimis margins, and any margins determined entirely under section 776 of the Act.

In this investigation, Commerce preliminarily calculated a dumping margin of zero percent for Sumitomo Heavy Industries Construction Cranes Co., Ltd. (Sumitomo). Therefore, the only rate that is not zero, de minimis, or based entirely on facts otherwise available is the rate calculated for Kobelco Construction Machinery Co., Ltd. (Kobelco). Consequently, the rate calculated for Kobelco is also assigned as the rate for all other producers and exporters.

Preliminary Determination

Commerce preliminarily determines that the following estimated weighted-average dumping margins exist:

Exporter/producer | Estimated weighted- average dumping margin (percent)
Kobelco Construction Machinery Co., Ltd | 2.79
Sumitomo Heavy Industries Construction Cranes Co., Ltd | 0.00
All Others | 2.79

Consistent with section 733(b)(3) of the Act, Commerce disregards zero or de minimis rates and preliminarily determines that Sumitomo, an individually examined respondent with a zero rate, has not made sales of subject merchandise at LTFV.

Suspension of Liquidation

In accordance with section 733(d)(2) of the Act, Commerce will direct U.S. Customs and Border Protection (CBP) to suspend liquidation of entries of subject merchandise, as described in Appendix I, entered, or withdrawn from warehouse, for consumption on or after the date of publication of this notice in the Federal Register. Further, pursuant to section 733(d)(1)(B) of the Act and 19 CFR 351.205(d), Commerce will instruct CBP to require a cash deposit equal to the estimated weighted-average dumping margin or the estimated all-others rate, as follows: (1) The cash deposit rate for the respondents listed above will be equal to the company-specific estimated weighted-average dumping margins determined in this preliminary determination; (2) if the exporter is not a respondent identified above, but the producer is, then the cash deposit rate will be equal to the company-specific estimated weighted-average dumping margin established for that producer of the subject merchandise except as explained below; and (3) the cash deposit rate for all other producers and exporters will be equal to the all-others estimated weighted-average dumping margin.

Because the estimated weighted-average dumping margin for Sumitomo is zero or de minimis, entries of shipments of subject merchandise from this company will not be subject to suspension of liquidation or cash deposit requirements. In such a situation, Commerce applies the exclusion to the provisional measures to the producer/exporter combination that was examined in the investigation. Accordingly, Commerce is directing CBP not to suspend liquidation of entries of subject merchandise produced and exported by Sumitomo. Entries of shipments of subject merchandise from this company in any other producer/exporter combination, or by third parties that sourced subject merchandise from the excluded producer/exporter combination, are subject to the provisional measures at the all-others rate.

Should the final estimated weighted-average dumping margin be zero or de minimis for the producer/exporter combination identified above, entries of shipments of subject merchandise from this producer/exporter combination will be excluded from the potential antidumping duty order. Such an exclusion is not applicable to merchandise exported to the United States by this respondent in any other producer/exporter combinations or by third parties that sourced subject merchandise from the excluded producer/exporter combination.

Disclosure

Commerce intends to disclose its calculations and analysis performed to interested parties in this preliminary determination within five days of any public announcement or, if there is no public announcement, within five days of the date of publication of this notice in accordance with 19 CFR 351.224(b).

Consistent with 19 CFR 351.224(e), Commerce will analyze and, if appropriate, address any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

As provided in section 782(i)(1) of the Act, Commerce intends to verify the information relied upon in making its final determination.

Public Comment

Case briefs or other written comments may be submitted to the Assistant Secretary for Enforcement and Compliance no later than seven days after the date on which the last verification report is issued in this investigation. A timeline for the submission of case briefs and written comments will be notified to interested parties at a later date. Rebuttal briefs, limited to issues raised in the case briefs, may be filed not later than five days after the date for filing case briefs.⁹ Interested parties who submit case briefs or rebuttal briefs in this investigation must submit: (1) a table of contents listing each issue; and (2) a table of authorities.¹⁰

⁹ See 19 CFR 351.309(d); see also Administrative Protective Order, Service, and Other Procedures in Antidumping and Countervailing Duty Proceedings, 88 FR 67069, 67077 (September 29, 2023) (APO and Service Final Rule).

¹⁰ See 19 351.309(c)(2) and (d)(2).

As provided under 19 CFR 351.309(c)(2)(iii) and (d)(2)(iii), we request that interested parties provide at the beginning of their briefs a public, executive summary for each issue raised in their briefs.¹¹ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹²

¹¹ We use the term “issue” here to describe an argument that Commerce would normally address in a comment of the Issues and Decision Memorandum.

¹² See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain (1) the party's name, address, and telephone number; (2) the number of participants and whether any participant is a foreign national; and (3) a list of the issues to be discussed. If a request for a hearing is made, Commerce intends to hold the hearing at a time and date to be determined. Parties should confirm the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Pursuant to 19 CFR 351.210(e)(2), Commerce requires that a request by exporters for postponement of the final determination be accompanied by a request for extension of provisional measures from a four-month period to a period not more than six months in duration.

On October 10 and November 20, 2025, respectively, pursuant to 19 CFR 351.210(e), Sumitomo and Kobelco requested that Commerce postpone the final determination and that provisional measures be extended to a period not to exceed six months.¹³ In accordance with section 735(a)(2)(A) of the Act and 19 CFR 351.210(b)(2)(ii), because: (1) the preliminary determination is affirmative; (2) the requesting exporters account for a significant proportion of exports of the subject merchandise; and (3) no compelling reasons for denial exist, Commerce is postponing the final determination and extending the provisional measures from a four-month period to a period not greater than six months. Accordingly, Commerce will make its final determination no later than 135 days after the date of publication of this preliminary determination.

¹³ See Sumitomo's Letter, “Request to Postpone Final Determination,” dated October 10, 2025; and Kobelco's Letter, “Request for Postponement of Final Determination and Extension of Provisional Measures,” dated November 20, 2025.

U.S. International Trade Commission (ITC) Notification

In accordance with section 733(f) of the Act, Commerce will notify the ITC of its preliminary determination. If the final determination is affirmative, the ITC will determine before the later of 120 days after the date of this preliminary determination or 45 days after the final determination whether these imports are materially injuring, or threaten material injury to, the U.S. industry.

Notification to Interested Parties

This determination is issued and published in accordance with sections 733(f) and 777(i)(1) of the Act, and 19 CFR 351.205(c).

Dated: January 13, 2026.
Christopher Abbott,
Deputy Assistant Secretary for Policy and Negotiations, performing the non-exclusive functions and duties of the Assistant Secretary for for Enforcement and Compliance.

Appendix I

Scope of the Investigation

The merchandise covered by this investigation consists of lattice boom crawler cranes, and lattice boom crawler crane assemblies. Lattice boom crawler cranes combine the assemblies defined below, among other components, including a lower carriage assembly fitted with tank-link crawler tracks, an upper carriage housing the operator cab, engine, and hydraulics, and a boom made of steel pipe welded together in a distinctive lattice pattern. The scope of this investigation covers lattice boom crawler cranes and lattice boom crawler crane assemblies, whether assembled or unassembled, and whether or not the lattice boom crawler crane contains any additional features that provide for functions beyond the primary lifting function. All lattice boom crawler cranes are included in the scope regardless of maximum lift capacity, lattice boom length, jib configuration, or other added features.

Subject merchandise includes, but is not limited to, the following lattice boom crawler crane assemblies which can be imported in isolation or combined in different configurations at the time of import:

• Lattice boom assemblies and pieces thereof. Lattice boom assemblies are formed of interlocking sections of welded high-strength steel pipe, that form the lifting attachment of the crane. A lattice boom is formed by welding main chords together with lacing pipes typically arranged in a “W” or “V” pattern. Lattice boom assemblies consist of a boom butt (also known as a boom bottom or boom base), which attaches to the upper carriage assembly, and a boom head (also known as a boom tip or boom hat), which forms the other end of the boom structure. In between the boom butt and boom head, boom inserts of various lengths can be inserted to reach the desired boom height and load bearing capability. Lattice boom assemblies may be imported with boom butt, boom tip, and boom inserts together, but boom butt, boom tip, and boom inserts imported alone are also covered by the scope.

• Lower carriage assembly. The lower carriage assembly (also may be referred to as a carbody or lower works) is constructed with high-strength steel components and forms the base of the crawler crane. The lower carriage assembly typically includes various motors, drive mechanisms, and hydraulics. The lower carriage assembly may also include a set of counterweights to provide backward stability for the assembled crane. The lower carriage typically has a circular center that is connected to the upper carriage assembly with a bearing. The lower and upper carriage assemblies may or may not be connected by a bearing at the time of importation. Steel arms extend from the center of the lower carriage and connect to the front and rear of the crawler assemblies that are positioned on both sides of the lower carriage assembly. The lower carriage assembly may also contain a hydraulic system that allows for the extension and retraction of the crawler assemblies to create a wider base. A lower carriage assembly may be imported with or without crawler assemblies.

• Crawler assembly. Each lattice boom crawler crane contains at least two crawler assemblies, which are continuous tracks that provide mobility and distribute the crane's weight evenly across the ground. The tracks of a lattice boom crawler crane consist of steel track shoes, which are interlocking steel plates that form the tread of the tracks and make direct contact with the ground, a track chain, which is a continuous loop of interconnected steel links, and a crawler body and track rollers, which support the track shoes and track chain. Typically, drive motors mounted on the lower carriage assembly connect to crawler-mounted drive sprockets, which engage the track chain and allow the LBCC to move forward and backward.

• Upper carriage assembly. The upper carriage assembly, also known as the upper works, typically includes the operator's cab, hydraulic systems, engine, boom hoist, mast, and a turntable base with swing drive mechanism that connects to the lower carriage assembly and allows the upper carriage to pivot on the lower carriage assembly. The upper and lower carriage assemblies may or may not be connected by a bearing at the time of importation. The upper carriage assembly may also include a separate counterweight tray and counterweights, which allow the crane to maintain balance while lifting heavy loads, as well as a gantry, which helps lift the boom and counterweights during installation, although the counterweight tray, counterweights, and gantry are not required to be attached for the upper carriage assembly to be a subject assembly. The boom butt may or may not be attached to the upper carriage assembly at the time of entry.

• Hoisting assembly. The hoisting assembly, housed within the upper carriage assembly and lattice boom assembly, powers the lifting and lowering of loads and typically consists of a hoisting line of high strength steel cable, a hoist motor, hoist brakes, hoisting drums, and a hook block formed from steel sheaves, which helps distribute the load on the hoisting line and increases lifting capacity. The main hoisting line typically runs from the hoist drums, housed in the upper carriage assembly, up through the lattice boom (which may or may not house additional hoist drums) and hook block.

• Jib assemblies. Jib assemblies are optional components that can be added to the top end of the boom to provide the crane with greater reach. Similar to lattice boom assemblies, jib assemblies typically consist of interlocking sections of welded steel pipe, arranged in a “V” or “W” lattice pattern. Jib assemblies can consist of either fixed jib, which extends from the main lattice boom at a fixed angle, or a luffing jib, which can be raised or lowered by the operator through a separate set of controls.

Importation of any of these assemblies, whether assembled or unassembled, constitutes unfinished lattice boom crawler cranes for purposes of this investigation. Inclusion of other components not identified as comprising the finished or unfinished lattice boom crawler cranes and lattice boom crawler crane assemblies do not remove the products from the scope.

Processing of lattice boom crawler cranes and lattice boom crawler crane assemblies such as welding, joining, bolting, painting, coating, finishing, or assembly, either in the country of manufacture of the in-scope product or in a third country does not remove the product from the scope. Lattice boom crawler cranes and lattice boom crawler crane assemblies subject to this investigation include those that are produced in the subject country whether assembled with other components in the subject country or in a third country. Processing or completion of finished and unfinished lattice boom crawler cranes and the covered lattice boom crawler crane assemblies either in the subject country or in a third country does not remove the product from the scope.

Lattice boom crawler cranes subject to this investigation are typically classifiable under subheadings 8426.49.0010 and 8426.49.0090 of the Harmonized Tariff Schedule of the United States (HTSUS). Lattice boom crawler crane assemblies may also be classified under subheadings 8426.49.0010 or 8426.49.0090, or may be classified under subheadings 8431.49.1090, 8431.49.1060, or 8425.19.0000 of the HTSUS. While the HTSUS subheadings are provided for convenience and customs purposes, the written description of the merchandise under investigation is dispositive.

Appendix II

List of Topics Discussed in the Preliminary Decision Memorandum

I. Summary

II. Background

III. Period of Investigation

IV. Discussion of the Methodology

V. Particular Market Situation

VI. Currency Conversion

VII. Recommendation

[FR Doc. 2026-00847 Filed 1-15-26; 8:45 am]

BILLING CODE 3510-DS-P